NUCLEAR REGULATORY COMMISSION

[Docket Nos. 50-445 and 50-446]

TXU Electric; Notice of Issuance of Amendments to Facility Operating License

The U.S. Nuclear Regulatory Commission (NRC or the Commission) has issued Amendment No. 89 to Facility Operating License (FOL) No. NPF-87 and Amendment No. 89 to FOL No. NPF-89 issued to TXU Electric (the licensee), which revised FOL Nos. NPF-87 and NPF-89 and the Technical Specifications for operation of the Comanche Peak Steam Electric Station (CPSES), Units 1 and 2, located in Somervell and Hood Counties, Texas. The amendments are effective as of the date of issuance.

The amendments modified FOL Nos. NPF-87 and NPF-89 and the Technical Specifications to increase the maximum licensed thermal power of CPSES, Units 1 and 2, to 3458 MWt, which represents an increase of approximately 1.4 percent of the currently licensed thermal power for CPSES, Unit 1, and an increase of approximately 0.4 percent for CPSES, Unit 2. In addition, the amendments remove Texas Municipal Power Agency (TMPA) from both Unit 1 and Unit 2 FOLs since transfer of partial ownership from TMPA to TXU was completed.

The application for the amendment, as supplemented, complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License and Opportunity for a Hearing in connection with this action was published in the Federal Register on May 29, 2001 (66 FR 29186). No request for a hearing or petition for leave to intervene was filed following this notice.

The Commission has prepared an Environmental Assessment related to the action and has determined not to prepare an environmental impact statement. Based upon the Environmental Assessment, the Commission has concluded that the issuance of the amendment will not have a significant effect on the quality of the human environment(66 FR 45065, dated August 27, 2001).

For further details with respect to the action see (1) the licensee's application for amendment dated April 5, 2001, as supplemented by letters dated June 28, August 2, and September 10, 2001; (2) Amendment No. 89 to FOL No. NPF-87 and Amendment No. 89 to FOL No. NPF-89; (3) the Commission's related Safety Evaluation; and (4) the Commission's Environmental Assessment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index.html. If you do not have access to ADAMS or if there are problems in accessing the documents located in ADAMS, contact the NRC Public Document Room Reference staff at 1-800-397-4209, 301-415-4737 or by e-mail to pdr@nrc.gov.

Dated at Rockville, Maryland, this 12th day of October, 2001.
For the Nuclear Regulatory Commission.
David H. Jaffe,
Senior Project Manager, Section 1, Project Directorate IV, Division of Licensing Project Management,Office of Nuclear Reactor Regulation.

[FR Doc. 01-26524 Filed 10-19-01; 8:45 am]

BILLING CODE 7590-01-P